DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Building Construction Technology Extension Pilot (BCTEP) Client Impact Survey.

OMB Control Number: None.

Form Number(s): NA.

Type of Request: Regular submission (new information collection).

Number of Respondents: 50.

Average Hours per Response: 15 minutes.

Burden Hours: 13.

Needs and Uses: The Building Construction Technology Extension Pilot (BCTEP) sponsored by the National Institute of Standards and Technology (NIST), the Manufacturing Extension Partnership (MEP) and the Department of Energy (DOE), Energy Efficiency and Renewable Energy/Building Technologies Office (EERE/BTO), is focused on training building operators in the principles and practices of building energy systems re-tuning. Re-tuning is a systematic semi-automated process of identifying operational problems in commercial and industrial buildings. The information collected under this request will be used to monitor and evaluate the Competitive Award Recipients' participation in the project as well as providing Congress with quantitate information required for government-supported programs. The reporting criterion is: Project accountability; project evaluation; award recipient evaluation; analysis and research; reports to stakeholders; continuous improvement; knowledge sharing; and identification of distinctive practices.

Affected Public: Business or other for-profit organizations; Not for-profit institutions.

Frequency: Annually.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Jasmeet Seehra, OMB Desk Officer, FAX number (202) 395-5167 or via the Internet at Jasmeet_K._Seehra@omb.eop.gov.

Dated: September 26, 2013.
Gwellnar Banks,
Management Analyst, Office of the Chief Information Officer.

[FR Doc. 2013-24023 Filed 10-1-13; 8:45 am]

BILLING CODE 3510-13-P